DEPARTMENT OF COMMERCE

National Oceanic and Atmospheric Administration

RIN 0648-XA453

Marine Mammals; File No. 15844

AGENCY: National Marine Fisheries Service (NMFS), National Oceanic and Atmospheric Administration (NOAA), Commerce.

ACTION: Notice; receipt of application.

SUMMARY: Notice is hereby given that Glacier Bay National Park and Reserve (Responsible Party: Susan Boudreau; Principal Investigator: Christine Gabriele), Gustavus, AK, 99826, has applied in due form for a permit to conduct research on humpback whales (Megaptera novaeangliae), killer whales (Orcinus orca) and minke whales (Balaenoptera acutorostrata).

DATES: Written, telefaxed, or e-mail comments must be received on or before June 27, 2011.

ADDRESSES: The application and related documents are available for review by selecting “Records Open for Public Comment” from the Features box on the Applications and Permits for Protected Species (APPS) home page, https://apps.nmfs.noaa.gov, and then selecting File No. 15844 from the list of available applications.

These documents are also available upon written request or by appointment in the following offices:

Permits, Conservation and Education Division, Office of Protected Resources, NMFS, 1315 East-West Highway, Room 13705, Silver Spring, MD 20910; phone (301) 713-2289; fax (301) 713-0376 and

Alaska Region, NMFS, P.O. Box 21668, Juneau, AK 99802-1668; phone (907) 586-7221; fax (907) 586-7249.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Joselyd Garcia-Reyes or Kristy Beard, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a permit to conduct passive acoustics, videography, photo-identification surveys, biopsy sampling, and collect sloughed skin and/or feces to study humpback whales, killer whales and minke whale. Research would occur around southeastern Alaska especially in Glacier Bay National Park & Preserve. Up to 6300 humpback whales, 500 killer whales, and 20 minke whales could be harassed each year during photo-identification surveys. Additionally, humpback whales and the three killer whale ecotypes could be harassed up to 50 times each, to acquire 30 successful biopsy samples, per year. See the application for specific take numbers by species/stock. The purposes of the proposed research are to: (1) Study the ecology, behavior and population status of all demographic groups in humpback, killer and minke whales, (2) continue one of the longest and most complete time-series data set on humpback whale populations, and (3) document long-term trends in the abundance, spatial and temporal distribution, reproductive parameters and feeding behaviors of humpback, killer, and minke whales, which would enhance information-based resource management of these species in the waters of southeastern Alaska, primarily in and around Glacier Bay National Park and Reserve. The permit would be valid for a period of five years.

A draft environmental assessment (EA) has been prepared in compliance with the National Environmental Policy Act of 1969 (42 U.S.C. 4321 et seq.), to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Dated: May 23, 2011.
P. Michael Payne,
Chief, Permits, Conservation and Education Division, Office of Protected Resources, National Marine Fisheries Service.

[FR Doc. 2011-13262 Filed 5-26-11; 8:45 am]

BILLING CODE 3510-22-P